FEDERAL RETIREMENT THRIFT INVESTMENT BOARD

Sunshine Act; Notice of ETAC Member Meeting

TIME AND DATE: November 14, 2016, 1 p.m.-3 p.m.

PLACE: 77 K Street NE., Washington, DC 20002.

STATUS: Open.

MATTERS TO BE CONSIDERED:

Agenda

Employee Thrift Advisory Council

November 14, 2016, 1:00 p.m.-3:00 p.m. (In-Person), 77 K Street, NE., Washington, DC 20002.

1. Approval of the minutes of the May 23, 2016 Joint Board/ETAC meeting

2. Thrift Savings Plan Statistics

3. Target Architecture Plan

4. Blended Retirement System

5. 2017-2021 Strategic Plan

6. Post Separation Retention Rate

7. New Business

CONTACT PERSON FOR MORE INFORMATION: Kimberly Weaver, Director, Office of External Affairs, (202) 942-1640.

Dated: October 24, 2016.
Megan Grumbine,
General Counsel, Federal Retirement Thrift Investment Board.

[FR Doc. 2016-25979 Filed 10-24-16; 4:15 pm]

BILLING CODE 6760-01-P